DEPARTMENT OF ENERGY

Federal Energy Regulatory Commission

[Docket No. RP01-51-000]

Crossroads Pipeline Company; Notice of Temporary Waiver Request

October 18, 2000.

Take notice that on October 13, 2000, Crossroads Pipeline Company (Crossroads) tendered for filing a request for a temporary waiver for implementing the Commission's regulation at 18 CFR 284.12(c)(2)(ii) by November 1, 2000 as set forth in Order No. 587-L issued June 30, 2000 in Docket No. RM96-1-014. Order No. 587-L required interstate pipelines to file tariff sheets implementing imbalance netting and trading by November 1, 2000. Crossroads incorporated this requirement in the tariff sheets it filed on June 15, 2000 in compliance with Order No. 637 in Docket No. RP00-333-000. Therefore, Crossroads is requesting a temporary waiver of the Commission's regulation at 18 CFR 284.12(c)(2)(ii) until the effective date of the tariff sheets in Docket No. RP00-333-000.

Crossroads states that copies of this filing have been sent to Crossroad's shippers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed on or before October 25, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27273 Filed 10-23-00; 8:45 am]

BILLING CODE 6717-01-M